DEPARTMENT OF AGRICULTURE

Food and Nutrition Service

Agency Information Collection Activities: Proposed Collection; Comment Request—Food Distribution Programs and Associated Forms

AGENCY: Food and Nutrition Service, USDA.

ACTION: Notice.

SUMMARY: In accordance with the Paperwork Reduction Act of 1995, the Food and Nutrition Service (FNS) is publishing for public comment a summary of a proposed information collection for reporting and recordkeeping burdens associated with the Food Distribution Programs and their associated forms. The proposed collection is an extension of collections currently approved under OMB No. 0584-0293.

DATES: Written and faxed comments must be received on or before June 20, 2003.

ADDRESSES: Comments may be mailed or faxed to Rosalind Cleveland, Chief, Program Support Branch, Food Distribution Division, Food and Nutrition Service, U.S. Department of Agriculture, 3101 Park Center Drive, Alexandria, VA 22302. The fax number is 703-305-1410. Comments may also be e-mailed to: fdd-pst@fns.usda.gov.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

All written comments will be open for public inspection at the office of the Food and Nutrition Service during regular business hours (8:30 a.m. to 5 p.m., Monday through Friday) at 3101 Park Center Drive, Alexandria, Virginia 22302, Room 508.

All responses to this notice will be summarized and included in the request for OMB approval. All comments will be a matter of public record.

FOR FURTHER INFORMATION CONTACT: Rosalind Cleveland at 703-305-2888.

SUPPLEMENTARY INFORMATION: Title: Food Distribution Programs.

OMB Number: 0584-0293.

Forms Information: See chart below.

Expiration Date: June 30, 2003.

Type of Request: Revision of Currently Approved Information Collection.

Abstract: Food and Nutrition Service regulations under 7 CFR 240 require recordkeeping for Cash in Lieu of Donated Foods; under 7 CFR 247 require reporting (Form FNS-153) and recordkeeping for the Commodity Supplemental Food Program; under 7 CFR 250 require reporting (Forms FNS-7, FNS-57, FNS-663, FNS-155, FNS-52, FNS-53, FNS-519A—Discontinued, FNS-519B—Discontinued, FNS-586A—Discontinued, FNS-586B—Discontinued) for Food Distribution Programs; under 7 CFR 251 require reporting (Form FNS-667) and recordkeeping for the Emergency Food Assistance Program; under 7 CFR 253/254 require reporting (Forms FNS-152, FNS-57) and recordkeeping for the Food Distribution Program on Indian Reservations. See the following chart for a listing of forms and burden hours.

Respondents: 7 CFR Section 240: School Food Authorities, State Agencies; 7 CFR Section 247: Local Agencies, State Agencies; 7 CFR Section 250: School Food Authorities, State Agencies, Food Processing Industry; 7 CFR Section 251: Local Agencies, State Agencies; 7 CFR Section 252: Local Agencies, ITOs.

Estimated Number of Respondents: 396,893 (See chart).

Number of Responses per Respondent: 2.3 (See chart).

Estimated Total Annual Responses: 918,862 (See chart).

Estimated Time per Response: 1.25607 hours (See chart).

Estimated Total Annual Burden on Respondents: 1,154,152 (See chart).

FDD OMB Burden Inventory
Section of regulations | Aggregate totals by regulation | Respondents | Annual responses | Total Manhours
240 | Recordkeeping | 15,662 | 187,944 | 46,986
247 | Reporting—no forms | 1,675 | 685,660 | 349,300
247 | Reporting—forms | 20 | 240 | 1,512
247 | Recordkeeping | 140 | 1,680 | 84
250 | Reporting—no forms | 16,360 | 18,131 | 12,219
| Reporting—forms | 5,245 | 18,804 | 37,606
| Recordkeeping | 234,016 |  | 18,908
251 | 251 Reporting—forms | 270 | 564 | 2,254
| Recordkeeping | 3,482 |  | 672,439
252 | Recordkeeping |  |  |
253&254 | 253&254 | 4,597 | 4,524 | 2,323
|  | 247 | 1,314 | 2,948
|  | 86,809 |  | 7,573
| Grand Total | 396,893 | 918,862 | 1,154,152
| Est. Number of Responses per Respondent | 2.3
| Burden Hours per Response | 1.25607

Changes:
7 CFR Part 250—Changes in the Older American Act Amendments of 2000 eliminating the need to report the number of meals served in the program during the current year. The meal count report forms, FNS-586A and FNS-586B, were discontinued | −1,415
7 CFR Part 250—Requirement to report TEFAP participation data on the FNS-155 has been discontinued | −28
7 CFR Part 251—Reduction in the number of State review reports submitted to EFAs by lowering the number of reviews required and the number of reports of findings to EFAs | −672
7 CFR Part 251—Incorporate activities from ICB #0584-0385, TEFAP Admin Costs and Form FNS-667, into comprehensive FDD package. | +963
7 CFR Part 252—The National Commodity Processing (NCP) program was discontinued in FY1995, although authorized through 2002. The reporting burden was eliminated with the last ICB renewal. Now that the 3 year recordkeeping requirement has passed, the burden hours under this part will be eliminated | −2,306
7 CFR Part 253/254—Requires documentation of child support and Medicare Part B payments during FDPIR certification process. | +79
7 CFR Part 253/254—Prime Vendor Pilot—testing ways to streamline commodity ordering and delivery to ITOs participating in FDPIR | +23
Total | −3,356

Dated: April 14, 2003.
Roberto Salazar,
Administrator, Food and Nutrition Service.

[FR Doc. 03-9712 Filed 4-18-03; 8:45 am]

BILLING CODE 3410-30-P